DEPARTMENT OF COMMERCE

Submission for OMB Review; Comment Request

The Department of Commerce will submit to the Office of Management and Budget (OMB) for clearance the following proposal for collection of information under the provisions of the Paperwork Reduction Act (44 U.S.C. Chapter 35).

Agency: International Trade Administration.

Title: Export Trade Certificate of Review.

OMB Control Number: 0625-0125.

Form Number(s): ITA-4093.

Type of Request: Regular submission.

Burden Hours: 384.

Number of Respondents: 12.

Average Hours Per Response: 32.

Needs and Uses: Title III of the Export Trading Company Act (Act) authorizes the Department of Commerce, with the concurrence of the Department of Justice (Departments), to issue an Export Trade Certificate of Review to any person who establishes that their proposed export trade, export trade activities, and methods of operation meet the standards set forth in the Act. The information contained in the application will be used by the Departments in performing the antitrust analysis required by the Act. The purpose of an analysis is to make a determination as to whether or not to issue an Export Trade Certificate of Review. A certificate provides its holder and members named in the certificate: (a) Immunity from government actions under state and Federal antitrust laws for the export conduct specified in the certificate; (b) some protection from frivolous private lawsuits by limiting their liability in private actions to actual damages when the challenged activities are covered by an Export Certificate of Review. Title III was enacted to reduce uncertainty regarding application of U.S. antitrust laws to export activities—especially those involving actions by domestic competitors.

Affected Public: Business or other for-profit organizations; Not-for-profit institutions; state, local or tribal government.

Frequency: Annually.

Respondent's Obligation: $0.

OMB Desk Officer: Wendy Liberante, (202) 395-3647.

Copies of the above information collection proposal can be obtained by calling or writing Diana Hynek, Departmental Paperwork Clearance Officer, (202) 482-0266, Department of Commerce, Room 6625, 14th and Constitution Avenue, NW., Washington, DC 20230 (or via the Internet at dHynek@doc.gov).

Written comments and recommendations for the proposed information collection should be sent within 30 days of publication of this notice to Wendy Liberante, OMB Desk Officer, fax number (202) 395-7285 or via the Internet at Wendy_L._Liberante@omb.eop.gov.

Dated: September 24, 2008.
Gwellnar Banks,
Management Analyst, Office of the Chief Information Officer.

[FR Doc. E8-22781 Filed 10-1-08; 8:45 am]

BILLING CODE 3510-DR-P